DEPARTMENT OF LABOR

Employment and Training Administration

[TA-W-42,343 and TA-W-42,343A]

Wolverine World Wide, Inc. Formerly Frolic Footwear, A Division of Wolverine Manufacturing Group, Arkansas Operations, Monette, Arkansas; Wolverine World Wide, Inc. Formerly Frolic Footwear, A Division of Wolverine Manufacturing Group, Arkansas Operations, Jonesboro, Arkansas; Amended Certification Regarding Eligibility To Apply for Worker Adjustment Assistance

In accordance with Section 223 of the Trade Act of 1974 (19 U.S.C. 2273) the Department of Labor issued a Notice of Certification Regarding Eligibility to Apply for Worker Adjustment Assistance on December 13, 2002, applicable to workers of Wolverine World Wide, Inc., formerly Frolic Footwear, a Division of Wolverine Manufacturing Group, Arkansas operations, Monette, Arkansas. The notice will be published soon in the Federal Register.

At the request of the company, the Department reviewed the certification for workers of the subject firm. The company reports that worker separations occurred at the Jonesboro, Arkansas location of Wolverine World Wide, Inc., Arkansas Operations. The Jonesboro, Arkansas location produces cut to fit upper component parts needed for the production of house slippers and clog slippers at the Monette, Arkansas location of the subject firm.

Based on these findings, the Department is amending the certification to include workers of the Jonesboro, Arkansas location of Wolverine World Wide, Inc., Arkansas Operations.

The intent of the Department's certification is to include all workers of Wolverine World Wide, Inc., Arkansas Operations who were adversely affected by increased imports.

The amended notice applicable to TA-W-42,343 is hereby issued as follows:

“All workers of Wolverine World Wide, Inc., formerly Frolic Footwear, a Division of Wolverine Manufacturing Group, Arkansas Operations, Monette, Arkansas (TA-W-42,343), and Jonesboro, Arkansas (TA-W-42,343A), who became totally or partially separated from employment on or after October 23, 2001, through December 13, 2004, are eligible to apply for adjustment assistance under Section 223 of the Trade Act of 1974.”

Signed at Washington, DC this 13th day of January 2003.
Linda G. Poole,
Certifying Officer, Division of Trade Adjustment Assistance.

[FR Doc. 03-2864 Filed 2-5-03; 8:45 am]

BILLING CODE 4510-30-P